DEPARTMENT OF TRANSPORTATION

Federal Aviation Administration

14 CFR Part 39

[Docket No. FAA-2014-0903; Directorate Identifier 2013-SW-043-AD; Amendment 39-18548; AD 2016-11-21]

RIN 2120-AA64

Airworthiness Directives; Airbus Helicopters Deutschland GmbH (Previously Eurocopter Deutschland GmbH) (Airbus Helicopters)

AGENCY: Federal Aviation Administration (FAA), DOT.

ACTION: Final rule.

SUMMARY: We are adopting a new airworthiness directive (AD) for Airbus Helicopters Model EC135P1, EC135P2, EC135P2+, EC135T1, EC135T2, and EC135T2+ helicopters. This AD requires reducing the life limit of certain parts and removing each part that has reached its life limit. The actions of this AD are intended to reduce the life limits of certain critical parts to prevent failure of a part and subsequent loss of control of the helicopter.

DATES: This AD is effective July 11, 2016.

ADDRESSES: For service information identified in this final rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

Examining the AD Docket

You may examine the AD docket on the Internet at http://www.regulations.gov by searching for and locating Docket No. FAA-2014-0903; or in person at the Docket Operations Office between 9 a.m. and 5 p.m., Monday through Friday, except Federal holidays. The AD docket contains this AD, the European Aviation Safety Agency (EASA) AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 10101 Hillwood Pkwy, Fort Worth, TX 76177; telephone (817) 222-5110; email matthew.fuller@faa.gov.

SUPPLEMENTARY INFORMATION:

Discussion

On November 13, 2014, at 79 FR 67382, the Federal Register published our notice of proposed rulemaking (NPRM), which proposed to amend 14 CFR part 39 by adding an AD that would apply to Airbus Helicopters Model EC135P1, EC135P2, EC135P2+, EC135T1, EC135T2, and EC135T2+ helicopters. The NPRM proposed to require, before further flight, revising the Airworthiness Limitations Section (ALS) of the applicable maintenance manual and the component history card or equivalent record by reducing the life limit for various parts and removing from service any part that has reached its life limit. The proposed requirements were intended to reduce the life limits of certain critical parts to prevent failure of a part and subsequent loss of control of the helicopter.

The NPRM was prompted by AD No. 2013-0178, dated August 7, 2013, issued by EASA, which is the Technical Agent for the Member States of the European Union, to correct an unsafe condition for Eurocopter Deutschland GmbH (ECD) (now Airbus Helicopters) Model EC135P1, EC135P2, EC135P2+, EC135T1, EC135T2, EC135T2+, EC635T1, EC635P2+, and EC635T2+ helicopters. EASA advises that ECD has revised the airworthiness limitations for the EC135 and EC635 type design as published in the Master Servicing Manual (MSM) EC135 Chapter 04—ALS documents. Revision 14 of the MSM contains these new airworthiness limitations. EASA states that failure to comply with these limitations could result in an unsafe condition. For these reasons, EASA AD No. 2013-0178 requires revising the ALS to include the new life limits and replacing each part that has reached its life limit.

Since the NPRM was issued, the FAA Southwest Regional Office has relocated and a group email address has been established for requesting an FAA Alternative Method of Compliance for a helicopter of foreign design. We have updated this information throughout this Final Rule.

Comments

After our NPRM (79 FR 67382, November 13, 2014) was published, we received comments from three commenters.

Request

Three commenters requested that the FAA not issue this AD. The commenters stated an AD to revise the airworthiness limitations of an aircraft manual is unnecessary because operators are required to use the most current revision of the manual.

We disagree. The FAA must issue an AD to mandate an airworthiness limitations revision, such as a new life limit, for all operators.

FAA's Determination

These helicopters have been approved by the aviation authority of Germany and are approved for operation in the United States. Pursuant to our bilateral agreement with Germany, EASA, its technical representative, has notified us of the unsafe condition described in the EASA AD. We are issuing this AD because we evaluated all information provided by EASA, considered the comments received, and determined the unsafe condition exists and is likely to exist or develop on other helicopters of these same type designs and that air safety and the public interest require adopting the AD requirements as proposed.

Differences Between This AD and the EASA AD

This AD does not apply to Airbus Helicopters Model EC635T1, P2+, or EC635T2+ helicopters because those helicopters are not type certificated in the U.S.

Related Service Information

The airworthiness limitations and maintenance procedures for certain parts are contained in the Airworthiness Limitations section, Chapter 4, of Eurocopter's MSM EC135, dated December 1, 2001. Revision 14 of the MSM, dated July 1, 2012, establishes a life limit for certain part-numbered main rotor blades and reduces the life limits for swashplate and mixing lever gear unit parts.

Costs of Compliance

We estimate that this AD affects 267 helicopters of U.S. Registry. We estimate that operators may incur the following costs in order to comply with this AD. Labor costs are estimated at $85 per work-hour. We estimate 2 work-hours to update the maintenance manual for a total cost of $170 for each helicopter and $45,390 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-11-21 Airbus Helicopters Deutschland GmbH (Previously Eurocopter Deutschland GmbH): Amendment 39-18548; Docket No. FAA-2014-0903; Directorate Identifier 2013-SW-043-AD.

(a) Applicability

This AD applies to Model EC135P1, EC135P2, EC135P2+, EC135T1, EC135T2, and EC135T2+ helicopters, certificated in any category.

(b) Unsafe Condition

This AD defines the unsafe condition as failure of a critical part, which could result in loss of control of the helicopter.

(c) Effective Date

This AD becomes effective July 11, 2016.

(d) Compliance

You are responsible for performing each action required by this AD within the specified compliance time unless it has already been accomplished prior to that time.

(e) Required Actions

Before further flight:

(1) Revise the life limit of each part listed in paragraphs (e)(1)(i) and (ii) in the Airworthiness Limitations Section of the applicable maintenance manual and record the revised life limit on the component history card or equivalent record as follows:

(i) For swashplate parts:

(A) Ring (bearing ring), part number (P/N) L623M2001214, reduce the life limit from 8,300 hours time-in-service (TIS) to 8,000 hours TIS.

(B) Ring (control ring), P/N L623M2001213, reduce the life limit from 8,300 hours TIS to 8,000 hours TIS.

(C) Cardan ring (two-part), P/N L623M2005205, reduce the life limit from 14,400 hours TIS to 12,900 hours TIS.

(D) Bolt (control ring), P/N L671M7001215, reduce the life limit from 14,400 hours TIS to 12,900 hours TIS.

(E) Bolt (sliding sleeve), P/N L623M2006206 and P/N L623M2006213, reduce the life limit from 14,400 hours TIS to 12,900 hours TIS.

(ii) For mixing lever gear unit parts:

(A) Forked lever assembly, P/N L671M3012102, reduce the life limit from 9,000 hours TIS to 8,700 hours TIS.

(B) Hinged support, P/N L671M7003210, reduce the life limit from 8,700 hours TIS to 8,400 hours TIS.

(C) Bolt, P/N L671M7001220, reduce the life limit from 8,700 hours TIS to 8,400 hours TIS.

(2) Remove from service any part listed in paragraph (e)(1) of this AD that has reached or exceeded its newly revised life limit.

(f) Special Flight Permits

Special flight permits are limited to a one-time flight to a maintenance facility to replace a part that has reached its life limit.

(g) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Master Servicing Manual EC135 Chapter 04—Airworthiness Limitations Section, Revision 14, dated July 1, 2012, which is not incorporated by reference, contains additional information about the subject of this final rule. For service information identified in this AD, contact Airbus Helicopters, 2701 N. Forum Drive, Grand Prairie, TX 75052; telephone (972) 641-0000 or (800) 232-0323; fax (972) 641-3775; or at http://www.airbushelicopters.com/techpub. You may review a copy of the service information at the FAA, Office of the Regional Counsel, Southwest Region, 10101 Hillwood Pkwy., Room 6N-321, Fort Worth, TX 76177.

(2) The subject of this AD is addressed in European Aviation Safety Agency (EASA) AD No. 2013-0178, dated August 7, 2013. You may view the EASA AD on the Internet at http://www.regulations.gov in Docket No. FAA-2014-0903.

(i) Subject

Joint Aircraft Service Component (JASC) Code: 6300, 2700 Swashplate Ring, Cardan Ring, Bolt, Mixing Lever Gear Unit (flight controls).

Issued in Fort Worth, Texas, on May 23, 2016.
Scott A. Horn,
Acting Manager, Rotorcraft Directorate, Aircraft Certification Service.

[FR Doc. 2016-13103 Filed 6-3-16; 8:45 am]

BILLING CODE 4910-13-P